DEPARTMENT OF ENERGY

Federal Energy Regulatory Commission

Combined Notice of Filings #1

July 6, 2010.

Take notice that the Commission received the following electric corporate filings:

Docket Numbers: EC10-78-000.

Applicants: Sierra Pacific Power Company, California Pacific Electric Company, LLC.

Description: California Pacific Electric Company, LLC submits joint application for authorization for disposition of jurisdictional assets under Section 203 of the Federal Power Act and Request for privileged treatment.

Filed Date: 07/02/2010.

Accession Number: 20100706-0205.

Comment Date: 5 p.m. Eastern Time on Friday, July 23, 2010.

Take notice that the Commission received the following electric rate filings:

Docket Numbers: ER94-1384-039; ER00-1803-009; ER01-457-010; ER02-1485-012; ER03-1108-012; ER03-1109-012; ER04-733-008; ER08-1432-006; ER99-2329-010.

Applicants: Morgan Stanley Capitol Group Inc., Naniwa Energy LLC, Power Contract Finance, L.L.C., South Eastern Generating Corporation, South Eastern Electric Development Corp, Utility Contract Funding II, LLC, MS Solar Solutions Corp., Power Contract Financing II, L.L.C., Power Contract Financing II, Inc.;

Description: Morgan Stanley Capital Group Inc., et. al. Notice of Change in Status.

Filed Date: 07/01/2010.

Accession Number: 20100701-5183.

Comment Date: 5 p.m. Eastern Time on Thursday, July 22, 2010.

Docket Numbers: ER96-780-029; ER00-3240-019; ER01-1633-016.

Applicants: Southern Company Services, Inc.; Oleander Power Project, L.P.; Southern Company—Florida LLC.

Description: Notification of Non-Material Change in Status re Market-Based Rate Tariff Authority of Southern Company Services, Inc.

Filed Date: 06/30/2010.

Accession Number: 20100630-5227.

Comment Date: 5 p.m. Eastern Time on Wednesday, July 21, 2010.

Docket Numbers: ER98-1643-018.

Applicants: Portland General Electric Company.

Description: Portland General Electric Company submits their triennial market power analysis.

Filed Date: 06/29/2010.

Accession Number: 20100630-0211.

Comment Date: 5 p.m. Eastern Time on Monday, August 30, 2010.

Docket Numbers: ER01-48-016.

Applicants: Powerex Corp.

Description: Powerex Corp submits an errata to its December 11, 2009 notice of change in status.

Filed Date: 06/24/2010.

Accession Number: 20100625-0205.

Comment Date: 5 p.m. Eastern Time on Thursday, July 15, 2010.

Docket Numbers: ER06-560-009.

Applicants: Credit Suisse Energy LLC.

Description: Credit Suisse Energy LLC Notice of Non-Material Change in Status.

Filed Date: 07/02/2010.

Accession Number: 20100702-5140.

Comment Date: 5 p.m. Eastern Time on Friday, July 23, 2010.

Docket Numbers: ER06-747-003.

Applicants: Equilon Enterprises LLC.

Description: Equilon Enterprises LLC US submits an updated market power analysis for the Southwest Region in compliance with the requirements of Section 205 of the FPA.

Filed Date: 06/29/2010.

Accession Number: 20100630-0201.

Comment Date: 5 p.m. Eastern Time on Monday, August 30, 2010.

Docket Numbers: ER07-1106-010; ER07-751-003; ER97-4084-012.

Applicants: ArcLight Energy Marketing, LLC, Denver City Energy Associates LP, Lea Power Partners, LLC.

Description: ArcLight Energy Marketing, LLC, et al., Notice of Non-Material Change in Status.

Filed Date: 07/02/2010.

Accession Number: 20100702-5056.

Comment Date: 5 p.m. Eastern Time on Friday, July 23, 2010.

Docket Numbers: ER09-1196-002.

Applicants: Lost Creek Wind, LLC.

Description: Notice of Change in Status of Lost Creek Wind, LLC.

Filed Date: 06/29/2010.

Accession Number: 20100629-5202.

Comment Date: 5 p.m. Eastern Time on Tuesday, July 20, 2010.

Docket Numbers: ER10-1313-001.

Applicants: Southwest Power Pool, Inc.

Description: Southwest Power Pool, Inc submits an executed Meter Agent Services Agreement.

Filed Date: 07/01/2010.

Accession Number: 20100702-0206.

Comment Date: 5 p.m. Eastern Time on Thursday, July 22, 2010.

Docket Numbers: ER10-1357-001.

Applicants: Southern California Edison Company.

Description: Southern California Edison Company submits tariff filing per 35.17(b): TOT_Amendment_070110 to be effective 6/1/2010.

Filed Date: 07/02/2010.

Accession Number: 20100702-5058.

Comment Date: 5 p.m. Eastern Time on Friday, July 23, 2010.

Docket Numbers: ER10-1655-001; ER06-1143-005.

Applicants: MATEP LLC, MATEP Limited Partnership.

Description: Notice of Change in Status and Compliance Filing of MATEP LLC and MATEP LP.

Filed Date: 07/01/2010.

Accession Number: 20100701-5188.

Comment Date: 5 p.m. Eastern Time on Thursday, July 22, 2010.

Docket Numbers: ER10-1567-000.

Applicants: Consolidated Edison Company of New York,

Description: Consolidated Edison Company of New York, Inc. submits an amendment to Con Edison's Delivery Service Rate Schedule 96.

Filed Date: 06/28/2010.

Accession Number: 20100628-0218.

Comment Date: 5 p.m. Eastern Time on Monday, July 19, 2010.

Docket Numbers: ER10-1638-000.

Applicants: Public Service Electric and Gas Company.

Description: Public Service Electric and Gas Company submits tariff filing per: Submittal of revised transmittal letter to be effective N/A.

Filed Date: 07/06/2010.

Accession Number: 20100706-5043.

Comment Date: 5 p.m. Eastern Time on Tuesday, July 27, 2010.

Docket Numbers: ER10-1693-000.

Applicants: New York State Electric & Gas Corp.

Description: New York State Electric & Gas Corporation submits filing to cancel its Open Access Transmission Tariff.

Filed Date: 07/01/2010.

Accession Number: 20100702-0208.

Comment Date: 5 p.m. Eastern Time on Thursday, July 22, 2010.

Docket Numbers: ER10-1694-000.

Applicants: Rochester Gas & Electric Corporation.

Description: Rochester Gas and Electric Corporation submits filing to cancel its Open Access Transmission Tariff.

Filed Date: 07/01/2010.

Accession Number: 20100702-0209.

Comment Date: 5 p.m. Eastern Time on Thursday, July 22, 2010.

Docket Numbers: ER10-1695-000.

Applicants: Entergy Services, Inc.

Description: Entergy Gulf States Louisiana, LLC submits an executed Amended and Restated Wholesale Power Sales Service Agreement with City of Jasper.

Filed Date: 07/01/2010.

Accession Number: 20100702-0210.

Comment Date: 5 p.m. Eastern Time on Thursday, July 22, 2010.

Docket Numbers: ER10-1696-000.

Applicants: Midwest Independent Transmission System Operator, Inc.

Description: Midwest Independent Transmission System Operator, Inc submits a proposed amendment to Module B of its Open Access Transmission, Energy and Operating Reserve Markets Tariff.

Filed Date: 07/01/2010.

Accession Number: 20100702-0211.

Comment Date: 5 p.m. Eastern Time on Thursday, July 22, 2010.

Docket Numbers: ER10-1697-000.

Applicants: Southwest Power Pool, Inc.

Description: Southwest Power Pool, Inc. submits an executed Service Agreement for Network Integration Transmission Service.

Filed Date: 07/01/2010.

Accession Number: 20100702-0212.

Comment Date: 5 p.m. Eastern Time on Thursday, July 22, 2010.

Docket Numbers: ER10-1698-000.

Applicants: Southwest Power Pool, Inc.

Description: Southwest Power Pool, Inc. submits an executed Service Agreement for Network Integration Transmission Service with City of Lindsborg etc.

Filed Date: 07/01/2010.

Accession Number: 20100702-0213.

Comment Date: 5 p.m. Eastern Time on Thursday, July 22, 2010.

Docket Numbers: ER10-1699-000.

Applicants: Southwest Power Pool, Inc.

Description: Southwest Power Pool, Inc. submits an executed Service Agreement for Network Integration Transmission Service with Westar Energy etc.

Filed Date: 07/01/2010.

Accession Number: 20100702-0214.

Comment Date: 5 p.m. Eastern Time on Thursday, July 22, 2010.

Docket Numbers: ER10-1700-000.

Applicants: Southwest Power Pool, Inc.

Description: Southwest Power Pool, Inc. submits an executed Service Agreement for network Integration Transmission Service.

Filed Date: 07/01/2010.

Accession Number: 20100702-0216.

Comment Date: 5 p.m. Eastern Time on Thursday, July 22, 2010.

Docket Numbers: ER10-1701-000.

Applicants: Ameren Services Company.

Description: Illinois Power Company et al. submits Transmission Upgrade Agreement with Exelon Generation Company, LLC etc.

Filed Date: 07/01/2010.

Accession Number: 20100702-0215.

Comment Date: 5 p.m. Eastern Time on Thursday, July 22, 2010.

Docket Numbers: ER10-1702-000.

Applicants: Orion Power Midwest, L.P.

Description: Orion Power Midwest, L.P. submits tariff filing per 35.12: Baseline Filing to be effective 8/1/2010.

Filed Date: 07/02/2010.

Accession Number: 20100702-5028.

Comment Date: 5 p.m. Eastern Time on Friday, July 23, 2010.

Docket Numbers: ER10-1703-000.

Applicants: California Pacific Electric Company, LLC.

Description: California Pacific Electric Company, LLC submits tariff filing per 35.12: Emergency Backup Service Agreement and Borderline Customer Agreement to be effective 12/31/1998.

Filed Date: 07/02/2010.

Accession Number: 20100702-5059.

Comment Date: 5 p.m. Eastern Time on Friday, July 23, 2010.

Docket Numbers: ER10-1704-000.

Applicants: Xcel Energy Services Inc.

Description: Public Service Company of Colorado submits proposed Engineering and Procurement Agreement with Tri-State Generation and Transmission Association, Inc.

Filed Date: 07/02/2010.

Accession Number: 20100702-0221.

Comment Date: 5 p.m. Eastern Time on Friday, July 23, 2010.

Docket Numbers: ER10-1705-000.

Applicants: Starion Energy NY, Inc.

Description: Starion Energy NY submits Petition for Acceptance of Initial Tariff, Waivers and Blanket Authorization.

Filed Date: 07/02/2010.

Accession Number: 20100702-0222.

Comment Date: 5 p.m. Eastern Time on Friday, July 23, 2010.

Docket Numbers: ER10-1706-000.

Applicants: California Independent System Operator Corporation.

Description: California Independent System Operator Corporation submits tariff filing per 35.13(a)(2)(iii): 2010-07-02—IRRP Amendment to be effective 7/3/2010.

Filed Date: 07/02/2010.

Accession Number: 20100702-5101.

Comment Date: 5 p.m. Eastern Time on Friday, July 23, 2010.

Docket Numbers: ER10-1707-000.

Applicants: Hess Corporation.

Description: Hess Corporation submits tariff filing per 35.12: Hess FERC Electric Rate Schedule No. 1 to be effective 7/2/2010.

Filed Date: 07/02/2010.

Accession Number: 20100702-5134.

Comment Date: 5 p.m. Eastern Time on Friday, July 23, 2010.

Docket Numbers: ER10-1708-000.

Applicants: Select Energy New York, Inc.

Description: Select Energy New York, Inc. submits tariff filing per 35.12: Select Energy FERC Electric Rate Schedule No. 1 to be effective 7/2/2010.

Filed Date: 07/02/2010.

Accession Number: 20100702-5135.

Comment Date: 5 p.m. Eastern Time on Friday, July 23, 2010.

Docket Numbers: ER10-1713-000.

Applicants: RRI Energy Mid-Atlantic Power Holdings,

Description: RRI Energy Mid-Atlantic Power Holdings, LLC submits tariff filing per 35.12: Baseline Filing to be effective 8/1/2010.

Filed Date: 07/06/2010.

Accession Number: 20100706-5055.

Comment Date: 5 p.m. Eastern Time on Tuesday, July 27, 2010.

Docket Numbers: ER10-1714-000.

Applicants: LG&E Energy Marketing Inc.

Description: LG&E Energy Marketing Inc. submits tariff filing per 35.12: LEM Energy Marketing Baseline to be effective 7/7/2010.

Filed Date: 07/06/2010.

Accession Number: 20100706-5061.

Comment Date: 5 p.m. Eastern Time on Tuesday, July 27, 2010.

Take notice that the Commission received the following electric securities filings:

Docket Numbers: ES10-46-000.

Applicants: Golden Spread Electric Cooperative, Inc.

Description: Amendment to Application of Golden Spread Electric Cooperative, Inc.

Filed Date: 07/02/2010.

Accession Number: 20100702-5141.

Comment Date: 5 p.m. Eastern Time on Monday, July 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-17147 Filed 7-13-10; 8:45 am]

BILLING CODE 6717-01-P